ENVIRONMENTAL PROTECTION AGENCY

40 CFR Part 52

[Region II Docket No. NJ 67-274 FRL-7788-6]

Approval and Promulgation of Implementation Plans New Jersey Emission Statement Program

AGENCY: Environmental Protection Agency (EPA).

ACTION: Final rule.

SUMMARY: The Environmental Protection Agency (EPA) is approving the State Implementation Plan (SIP) revision submitted by the State of New Jersey on January 23, 2003, for the purpose of enhancing an existing Emission Statement Program for stationary sources in New Jersey. The SIP revision consists of amendments to the New Jersey Administrative Code (N.J.A.C.) title 7, chapter 27, subchapter 21, Emission Statements.

The SIP revision was submitted by New Jersey to satisfy the Clean Air Act requirements for stationary sources to report annually to the State on their emissions of volatile organic compounds (VOC), oxides of nitrogen (NOX) and carbon monoxide (CO), in order for the State to make this data available to EPA and the public.

The rule enhances the reporting requirements of VOC and NOX and expands the reporting requirement based on specified emission thresholds to include CO, sulfur dioxides (SO2), total suspended particulate matter (TSP), particulate matter measuring 2.5 microns or less (PM2.5), particulate matter measuring 10 microns or less (PM10), ammonia (NH3), lead (Pb), hazardous air pollutants (HAPs), and carbon dioxide (CO2) and methane (CH4). The intended effect is to provide improved information to plan for and attain the air quality standards.

EFFECTIVE DATE: This rule will be effective September 1, 2004.

ADDRESSES: Copies of the state submittal(s) are available at the following addresses for inspection during normal business hours:

New Jersey Department of Environmental Protection and Energy, Office of Air Quality Management, Bureau of Air Quality Planning, 401 East State Street, CN418, Trenton, New Jersey 08625.

Environmental Protection Agency, Region II Office, 290 Broadway, New York, New York 10007-1866.

FOR FURTHER INFORMATION CONTACT: Raymond K. Forde, Air Programs Branch, Environmental Protection Agency, 290 Broadway, 25th Floor, New York, New York 10007-1866, (212) 637-3716, forde.raymond@epa.gov.

SUPPLEMENTARY INFORMATION:

I. What Action Is EPA Taking Today?

EPA is approving a revision to New Jersey's ozone SIP submitted on January 23, 2003. New Jersey submitted a SIP revision which included an adopted Emission Statement Regulation. The regulation amends N.J.A.C. title 7, chapter 27, subchapter 21, Emission Statements. The amendments were adopted on January 23, 2003, by the New Jersey Department of Environmental Protection (NJDEP) and became effective on February 18, 2003. The reader is referred to the proposed rulemaking (December 9, 2003, 68 FR 68581) for additional details.

II. What Role Does This Action Play in the Ozone and CO SIP?

Section 182(a) of the Act establishes requirements for stationary sources of air pollution to prepare and submit to the state statements each year showing actual emissions of VOC and NOX. Further, states with ozone nonattainment areas are required to submit a SIP revision establishing this Emission Statement Program.

Facilities are required to submit their first emission statement to a state within three years of promulgation of the Act and annually thereafter. If either VOC or NOX is emitted at or above the minimum reporting level established in a state Emission Statement Program, the other pollutant (NOX or VOC) from the same facility should be included in the emission statement, even if the pollutant is emitted at levels below the minimum reporting level.

Section 182(a)(3)(B)(ii) of the Act allows states to waive, with EPA approval, the requirement for an emission statement for classes or categories of sources with less than 25 tons per year of actual plant-wide NOX and VOC emissions in nonattainment areas if the class or category is included in the base year and periodic inventories and emissions are calculated using emission factors established by EPA (such as those found in EPA publication AP-42) or other methods acceptable to EPA.

Consolidated Emission Reporting Rule (Annual Reporting for All Criteria Pollutants)

In order to consolidate federal reporting requirements, on June 10, 2002 (67 FR 39602), EPA published the final Consolidated Emissions Reporting rule. The purpose of the Consolidated Emissions Reporting rule is to simplify the states' annual reporting of criteria pollutants (SO2, NOX, PM2.5, PM10, CO and Pb) to EPA and their precursors (VOC, NOX and NH3) for which the National Ambient Air Quality Standards (NAAQS) have been established. The Consolidated Emissions Reporting rule also offers options for data collection and exchange and unifies reporting dates for various categories of criteria pollutant emission inventories. States are to report emissions from industrial point sources (based on specific emission thresholds) starting with calendar year (CY) 2001 and due June 1, 2003, and continuing every year thereafter (i.e., CY 2002 emission inventory due June 1, 2004, CY 2003 emission inventory due June 1, 2005 * * * etc.). One important element of the Consolidated Emissions Reporting rule is a requirement that states collect PM2.5 and NH3 emissions data from industrial facilities. Reporting of PM2.5 and NH3 from point sources becomes effective June 2004, for emissions that occurred during calendar year 2002.

New Jersey's rule appropriately requires facilities anywhere in the State which emit or have the potential to emit 10 tpy or more of VOC or 25 tpy or more of NOX to submit an annual emission statement. In accordance with the provisions to waive reporting requirements, New Jersey will continue to allow its previously established waiver from the Emission Statement Program for sources emitting less than 10 tpy of VOC and less than 25 tpy of NOX. New Jersey has included these sources of emissions (calculated using emission factors established or approved by EPA) in the base year inventory and will continue to do so for the periodic inventories.

New Jersey's Emission Statement rule, enhances the reporting requirements of VOC and NOX and expands the reporting requirement based on specified emission thresholds to include CO, SO2, TSP, PM2.5, PM10, NH3, Pb, 36 HAPs, CO2 and CH4. The intended effect is to provide improved information to plan for and attain the air quality standards.

New Jersey's Emission Statement rule, which requires facilities to report information for criteria pollutants, their associated precursors mentioned above and HAPs, will now enable the State to satisfy the federal Consolidated Emissions Reporting rule requirements for major sources and help the State to develop a HAPs emission inventory for use in National Air Toxics Assessment.

The State's Emission Statement program requires facilities to report on the following pollutants to assist the State in air quality planning needs: hydrochloric acid, hydrazine, methylene chloride, tetrachloroethylene, 1,1,1 trichloroethane, CO2 and CH4. While EPA recognizes the value of this information, EPA will not take a SIP-related enforcement action should a facility not submit this information to the State in an emission statement because these substances do not cause or exacerbate exceedances of the NAAQS.

III. What Are EPA's Conclusions?

EPA has concluded that the New Jersey program contains the necessary applicability, compliance and reporting provisions necessary to meet the requirements for an Emission Statement Program. Accordingly, EPA is approving Subchapter 21, Emission Statements, as part of the SIP.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 1, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Lead, Nitrogen dioxide, Ozone, Particulate matter, Reporting and recordkeeping requirements, Sulfur oxides, Volatile organic compounds.

Dated: June 30, 2004.
Jane M. Kenny,
Regional Administrator, Region 2.

Part 52, chapter I, title 40 of the Code of Federal Regulations is amended as follows:

PART 52—[AMENDED]

1. The authority citation for part 52 continues to read as follows:

Authority: 42 U.S.C. 7401 et seq.

Subpart FF—New Jersey

2. Section 52.1570 is amended by adding new paragraph (c)(75) to read as follows:

§ 52.1570 Identification of plan.

* * * * *

(c) * * *

(75) Revisions to the State Implementation Plan submitted on January 23, 2003 by the State of New Jersey Department of Environmental Protection for the purpose of enhancing an existing Emission Statement Program for stationary sources in New Jersey. The SIP revision was submitted by New Jersey to satisfy the Clean Air Act requirements for stationary sources to report annually to the State on their emissions of volatile organic compounds (VOC), oxides of nitrogen (NOX) and carbon monoxide (CO), in order for the State to make this data available to EPA and the public.

(i) Incorporation by reference:

(A) Amended Regulation Subchapter 21 of Title 7, Chapter 27 of the New Jersey Administrative Code, entitled “Emission Statements,” adopted on January 23, 2003 and effective on February 18, 2003.

(ii) Additional material:

(A) Letter from State of New Jersey Department of Environmental Protection dated January 23, 2003, requesting EPA approval of a revision to the Ozone and CO SIP which contains amendments to the Subchapter 21 “Emission Statements.”

* * * * *

3. Section 52.1605 is amended by revising the entry under Title 7, Chapter 27 for Subchapter 21 in the table to read as follows:

§ 52.1605 EPA-approved New Jersey regulations.

State regulation | State effective date | EPA approved date | Comments
* * * * * * *
Title 7, Chapter 27
* * * * * * *
Subchapter 21, “Emission Statements.” | Feb. 18, 2003 | August 2, 2004, FR page citation | Section 7:27-21.3(b)(1) and 7:27-21.3(b)(2) of New Jersey's Emission Statement rule requires facilities to report on the following pollutants to assist the State in air quality planning needs: hydrochloric acid, hydrazine, methylene chloride, tetrachlor-ethylene, 1, 1, 1 trichloroethane, carbon dioxide and methane. EPA will not take SIP-related enforcement action on these pollutants.
* * * * * * *

[FR Doc. 04-17371 Filed 7-30-04; 8:45 am]

BILLING CODE 6560-50-P